DEPARTMENT OF THE INTERIOR

Bureau of Land Management

[18X LLWO600000.L18200000.XP0000]

National Call for Nominations for Site-Specific Advisory Committees

AGENCY: Bureau of Land Management, Interior.

ACTION: Notice of call for nominations.

SUMMARY: The purpose of this notice is to request public nominations for the Bureau of Land Management's (BLM) Bears Ears and Grand Staircase-Escalante National Monument Advisory Committees (MACs). The MACs provide advice and recommendations to the BLM on the development and implementation of management plans in accordance with the statutes under which the monuments were established.

DATES: All nominations must be received no later than March 11, 2022.

ADDRESSES: Applications for the Bears Ears MAC should be sent to Rachel Wootton, BLM Canyon Country District Office, 82 Dogwood Ave., Moab, UT 84532; email: rwootton@blm.gov, Phone: (385) 235-4364.

Applications for the Grand Staircase-Escalante MAC should be sent to David Hercher, BLM Paria River District Office, 669 South Highway 89A, Kanab, UT 84741; email: dhercher@blm.gov, Phone: (435) 644-1209.

FOR FURTHER INFORMATION CONTACT: Melissa Schnee, Public Affairs Specialist, 440 West 200 South, Suite 500, Salt Lake City, UT 84101; email: mschnee@blm.gov; phone: (801) 539-4089. Persons who use a telecommunications device for the deaf (TDD) may call the Federal Relay Service (FRS) at (800) 877-8339 to contact the BLM during normal business hours. The FRS is available 24 hours a day, 7 days a week, to leave a message or question. Replies are provided during normal business hours.

SUPPLEMENTARY INFORMATION: The Federal Land Policy and Management Act (FLPMA) directs the Secretary of the Interior to involve the public in planning and in addressing issues related to management of lands administered by the BLM through the establishment of 10- to 15-member citizen-based advisory councils that are managed in accordance with the Federal Advisory Committee Act.

The Bears Ears MAC consists of 15 members including an elected official from San Juan County representing the County; a representative of State government; a representative with paleontological expertise; a representative with archaeological or historic expertise; a representative of the conservation community; a representative of livestock grazing permittees within the Monument; two representatives of Tribal interests; two representatives of developed outdoor recreation, off-highway vehicle users, or commercial recreation activities; a representative of dispersed recreational activities; a representative of private landowners; a representative of local business owners; and two representatives of the public at large.

The Grand Staircase-Escalante MAC consists of 15 members including an elected official from Garfield County representing the County; an elected official from Kane County representing the County; a representative of State government; a representative of Tribal government with ancestral interest in the Monument; a representative of the educational community; a representative of the conservation community; a representative of developed outdoor recreation, off-highway vehicle users, or commercial recreation activities; a representative of dispersed recreation; a livestock grazing permittee operating within the Monument to represent grazing permittees; a representative of private landowners; a representative of local business owners; and a representative of the public at large. Additionally, three representatives are appointed as special Government employees, one for each of the following areas of expertise: A representative with expertise in systems ecology; a representative with expertise in paleontology; and a representative with expertise in archaeology or history.

The rules governing advisory councils are found at 43 CFR subpart 1784.

The following must accompany all nominations:

—A completed MAC application which can be found at: https://www.blm.gov/sites/blm.gov/files/1120-019_0.pdf

—Letter(s) of reference that describe the nominee's experience and qualifications; and

—Any other information that addresses the nominee's qualifications.

Individuals may nominate themselves or others. Nominees should note the interest area(s) they are applying to represent on their application. The BLM will evaluate nominees based on their education, training, experience, and knowledge of the geographic area of the advisory committee. Nominees should demonstrate a commitment to consensus building and collaborative decision-making. Simultaneous with this notice, the BLM Utah State Office will issue a press release providing additional information for submitting nominations

Authority: 43 CFR 1784.4-1.

Gregory Sheehan,
State Director.

[FR Doc. 2022-02673 Filed 2-8-22; 8:45 am]

BILLING CODE 4310-DQ-P